DEPARTMENT OF AGRICULTURE

Forest Service

Bussel 484, Idaho Panhandle National Forests, Idaho, Shoshone County

AGENCY: Forest Service, USDA.

ACTION: Notice of intent to prepare a supplemental environmental impact statement.

SUMMARY: The USDA Forest Service will prepare a supplemental environmental impact statement (SEIS) for the Bussel 484 Project. The Notice of Availability of the Draft EIS for the Bussel 484 Project was published in the Federal Register (73 FR 12413) on March 7, 2008, and the notice for the Final EIS (73 FR 24279) was published on May 2, 2008. The Record of Decision (ROD) for this project was signed on May 21, 2008. It was administratively appealed to the Regional Forester per 36 CFR part 215. The Regional Forester affirmed the decision on July 31, 2008. A complaint was filed in the United States District Court for the District of Idaho on April 9, 2009. On August 6, 2010 the United States District Court for the District of Idaho set aside the Bussel 484 decision and remanded it to the Forest Service. The proposed action is unchanged from the final EIS. A supplemental EIS will be prepared to address analysis for wildlife, fire management direction, recently designated critical habitat for bull trout, and newly designated Sensitive species.

DATES: Scoping is not required for supplements to environmental impact statements (40 CFR 1502.9(c)(4)). There was extensive public involvement in the development of the proposed action, the 2008 Draft EIS, and the 2008 Final EIS. The Forest Service is not inviting comments at this time. The draft supplemental EIS is expected May 2011, and the final supplemental EIS is expected July 2011. The comment period for the draft SEIS will be 45 days from the date the EPA publishes the notice of availability in the Federal Register.

ADDRESSES: St. Joe Ranger District, 222 South 7th Street, Suite 1, St. Maries, Idaho 83861.

FOR FURTHER INFORMATION CONTACT: Wade Sims, District Ranger, USDA Forest Service, St. Joe Ranger District, 208-245-2531. Individuals who use telecommunication devices for the deaf (TDD) may call the Federal Information Relay Service (FIRS) at 1-800-877-8339 between 8 a.m. and 8 p.m., Eastern Time, Monday through Friday.

SUPPLEMENTARY INFORMATION: The Forest Supervisor selected Alternative B with modifications as documented in the May 2008 Bussel 484 Record of Decision (ROD). The ROD authorized approximately 2,137 acres of timber harvest, fuel treatment resulting from the timber harvest, tree planting in regeneration harvest units, pocket gopher control, 575 acres of precommercial thinning which also included 309 acres of white pine pruning, approximately 4.5 miles of system road construction on National Forest System lands, 0.2 miles of road construction across lands owned by Potlatch Corporation as part of a cost-share agreement, 0.5 miles of temporary road construction, 5.4 miles of road reconstruction, installing effective motorized vehicle restriction devices thorughout the project area, removing a gate, 0.2 miles of new trail construction for motorized vehicles less than 50 inches wide, the conversion of Bussel Creek Trail 258 to non-motorized use, designation of Lines Creek Historical Trail for motorized vehicles less than 50 inches wide, repair and designation of 2.9 miles of the Norton Railroad Grade for motorized vehicles less than 50 inches wide, storage or decommissioning of approximately 32 miles of existing road, planting native trees and shrubs along riparian areas, large woody debris placement in stream channels, elimination of two human-created fish migration barriers, and reallocation of approximately 120 acres of Management Area 9 to Management Area 1. The supplemental EIS will contain additional information about wildlife, fire management direction, recently designated critical habitat for bull trout, and newly designated Sensitive species.

The mailing list for this project will include those individuals, agencies and organizations on the mailing list for the March 2008 Draft EIS. The comment period for the draft SEIS will be 45 days from the date the EPA publishes the notice of availability in the Federal Register. The Idaho Panhandle National Forests Supervisor will make a decision on this project after considering comments, environmental consequences, and applicable laws, regulations, and policies.

Purpose and Need for Action

The project is needed to maintain or improve resilience of the vegetative resources to disturbances such as insects, disease, and fire; provide wood products for local communities; work toward full support of designated beneficial uses in the Bussel Creek Watershed; and manage access to provide for multiple uses.

Proposed Action

The proposed action as described in the FEIS includes timber harvest and associated fuels treatment on approximately 2,137 acres; approximately 5.1 miles of system road construction, 0.5 miles of temporary road construction, and 6.7 miles of road reconstruction to facilitate the timber harvest; repairing the Norton Creek Railroad Grade then designating it open to vehicles less than 50 inches wide; 29 miles of road decommissioning and storage; 367 acres of planting after timber harvest; 367 acres of pocket gopher control; 821 acres of precommercial thinning and pruning; changes in access management including installing effective restrictive devices on some roads, removing a gate, constructing 0.2 miles of new trail for ATV use, converting Bussel Creek Trail 258 to non-motorized use, designating Lines Creek Historical Trail for motorized vehicles less than 50 inches wide; planting some portions of riparian areas; placing large woody debris in streams; and correcting two fish migration barriers.

Responsible Official

The Forest Supervisor of the Idaho Panhandle National Forests is the Responsible Official.

Nature of Decision To Be Made

The decison for the Bussel 484 Project will identify the land management activities to be implemented in the project area including acres, types, and locations of vegetative treatments including timber harvest, fuel treatments, planting, and precommercial thinning; acres of pocket gopher control to protect regeneration; miles and locations of road construction, reconstruction, storage, and decommissioning; changes for public motorized access; areas and locations to place large woody debris in streams, and methods to correct fish migration barriers. The SEIS is intended to provide additional evaluation of wildife, the Idaho Panhandle National Forests' fire management direction, recently designated critical habitat for bull trout, and newly designated Sensitive species and provide that information to the public.

Scoping Process

Scoping is not required for supplements to environmental impact statements (40 CFR 1502.9(c)(4)). There was extensive public involvement in the development of the proposed action, the 2008 Draft EIS, and the 2008 Final EIS. The Forest Service is not inviting comments at this time.

Comment Requested

The comment period on the draft environmental impact statement will be 45 days from the date the Environmental Protection Agency publishes the notice of availability in the Federal Register.

The Forest Service believes, at this early state, it is important to give reviewers notice of several court rulings related to public participation in the environmental review process. First, reviewers of draft environmental impact statements must structure their participation in the environmental review of the proposal so that it is meaningful and alerts an agency to the reviewer's positions and contentions. Vermont Yankee Nuclear Power Corp. v. NRDC, 435 U.S. 519, 553 (1978). Also, environmental objections that could be raised at the draft environmental impact statement stage but that are not raised until after completion the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: April 13, 2011.
Ranotta K. McNair,
Forest Supervisor.

[FR Doc. 2011-9539 Filed 4-19-11; 8:45 am]

BILLING CODE 3410-11-P